DEPARTMENT OF ENERGY

Federal Energy Regulatory Commission

[ Docket Nos. ER04-48-000, RT04-01-000, ER04-434-000, ER99-4392-000 and RM01-12-000]

Southwest Power Pool, Inc., Remedying Undue Discrimination through Open Access Transmission Service and Standard Electricity Market Design; Notice of Technical Conference

March 11, 2004.

As announced in the Notice of Technical Conference issued on February 18, 2004, a technical conference will be held on March 19, 2004, to discuss with states and market participants in the SPP region reasonable timetables for RTO development activities to benefit customers within the region. Members of the Commission will attend and participate in the discussion.

The conference will focus on the issues identified in the agenda, which is appended to this notice as Attachment A. However, participants/stakeholders may present their views on other important issues that relate to the development of the Regional Transmission Organization.

The conference will begin at 9 a.m. Central Time and will adjourn at about 1 p.m. Central Time. The conference will be held at the Hyatt Regency DFW, inside the Dallas/Ft. Worth Airport in Dallas, Texas. This conference is open for the public to attend, and registration is not required; however, in-person attendees are asked to register for the conference on-line by close of business on Wednesday, March 17 at http://www.ferc.gov/whats-new/registration/smd-0319-form.asp.

Transcripts of the conference will be immediately available from Ace Reporting Company (202-347-3700 or 1-800-336-6646) for a fee. They will be available for the public on the Commission's “eLibrary” seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at (202) 502-8004 or sarah.mckinley@ferc.gov.

Magalie R. Salas,
Secretary.

Appendix A—Agenda

9-9:10 am—Opening Remarks

Pat Wood, III, Chairman, Federal Energy Regulatory Commission

9:10-10:15 am—SPP RTO Issues, Plan, Timeline

Southwest Power Pool Inc. Presenters:

Nick Brown, President and CEO

Stacy Duckett, Vice President, General Counsel and Corporate Secretary

Bruce Rew, Director of Engineering

10:15-11:15 am—Stakeholder Issues

Trudy Harper, President, Tenaska Power Services Co.

Robert A. O'Neil, Principal, Miller, Balis & O'Neil, P.C. Representing Golden Spread Electric Cooperative

The Honorable Tom Sloan, Representative of the 45th District, Kansas State Legislature

R. Harry Dawson, General Manager, Oklahoma Municipal Power Authority

Ricky Bittle, Vice President, Planning, Rates and Dispatch, Arkansas Electric Cooperative Corporation

John H. Butts, General Manager, East Texas Electric Cooperative, Inc.

James R. Stanton, Director of Market Design, Calpine

Richard Spring, Vice President, Transmission Services, Kansas City Power & Light Company

11:15-11:30 am—Break

11:30-12:30 pm—State Issues/Regional State Committee Discussion with State Commissioners and Representatives, Other conference attendees and SPP

12:30-1 pm—Next Steps

[FR Doc. E4-646 Filed 3-22-04; 8:45 am]

BILLING CODE 6717-01-P